DEPARTMENT OF EDUCATION

Elementary and Secondary Education Act; Implementation; Single-Sex Classes and Schools; Guidelines

AGENCY: Office for Civil Rights, U.S. Department of Education.

ACTION: Notice.

SUMMARY: The Secretary of Education gives notice that “Guidelines on current title IX requirements related to single-sex classes and schools,” published in the Federal Register on May 8, 2002 (67 FR 31102), for use by State educational agencies (SEAs) and local educational agencies (LEAs) in certain applications for Innovative Programs funds, is withdrawn. The Secretary also gives notice that the new final regulations implementing Title IX of the Education Amendments of 1972 (Title IX), which prohibits sex discrimination in federally assisted education programs and activities, published in the Federal Register on October 25, 2006 (71 FR 62530), which expand flexibility for recipients to provide single-sex classes and schools and include a preamble explaining the requirements of these new regulations, are deemed guidelines on Title IX requirements for single-sex classes and schools for the purposes of the requirements of 20 U.S.C. 7215(c) and 20 U.S.C. 7215b(b)(9) with respect to applications for Innovative Programs funds to support single-sex classes and schools.

DATES: This notice is effective June 11, 2007.

FOR FURTHER INFORMATION CONTACT: Sandra G. Battle, U.S. Department of Education, 400 Maryland Avenue, SW., room 6125, Potomac Center Plaza, Washington, DC 20202-1100. Telephone: (202) 245-6767.

If you use a telecommunications device for the deaf (TDD), you may call 1-877-521-2172. For additional copies of this document, you may call the Customer Service Team for the Office for Civil Rights (OCR) at (202) 245-6800 or 1-800-421-3481.

Individuals with disabilities may obtain this document in an alternative format (e.g., Braille, large print, audiotape, or computer diskette) on request to the contact person listed under FOR FURTHER INFORMATION CONTACT.

SUPPLEMENTARY INFORMATION: The No Child Left Behind Act of 2001 (NCLB Act) permits LEAs to use Innovative Programs funds to support, among other things, single-sex schools and classes consistent with applicable law. 20 U.S.C. 7215(a)(23). In this regard the NCLB Act required the Secretary of Education (Secretary) to issue guidelines for LEAs regarding the applicable law on single-sex classes and schools. 20 U.S.C. 7215(c). The NCLB Act provides that LEAs may submit applications for Innovative Programs funds and receive allocations of funds in connection with applications that are certified by the SEA pursuant to NCLB Act requirements. 20 U.S.C. 7215b(a). Among the requirements applicable to SEA certification of LEA applications for Innovative Programs funds is that LEA applications that seek funds for the purpose of supporting single-sex classes and schools contain a description of how the LEA will comply with the guidelines issued by the Secretary on the law applicable to single-sex classes and schools. 20 U.S.C. 7215b(b)(9).

On May 8, 2002, in fulfillment of the NCLB Act requirement, the Secretary issued “Guidelines on current title IX requirements related to single-sex classes and schools” (2002 Guidelines). (67 FR 31102). The 2002 Guidelines described certain provisions of Title IX, 20 U.S.C. 1681 et seq., and the Department of Education's (Department) regulations implementing Title IX, 34 CFR part 106, that provide requirements pertaining to nondiscrimination on the basis of sex in single-sex classes and schools in education programs and activities that receive financial assistance from the Department.¹ The 2002 Guidelines focused in major part on 34 CFR 106.34 and 106.35, which provide specific requirements for single-sex classes and schools.² On October 25, 2006, the Department published final regulations, which amended 34 CFR 106.34 and 106.35 regarding requirements applicable to single-sex classes, extracurricular activities, and schools. (71 FR 62530). The new regulations took effect on November 24, 2006.

¹ Also on May 8, 2002, the Department published a notice of intent to regulate, stating the Department's intent to amend the Title IX regulations to provide more flexibility for single-sex classes and schools at the elementary and secondary education levels and inviting comments from the public. (67 FR 31097). On March 9, 2004, the Department published proposed regulations that proposed to amend 34 CFR 106.34 and 106.35 to provide more flexibility for single-sex classes and schools at the elementary and secondary education levels. (69 FR 11276).

² The 2002 Guidelines also explained the requirements of 34 CFR 106.3 relative to single-sex classes and schools and 34 CFR 106.15(d) relative to single-sex nonvocational elementary and secondary schools, as well as certain statutory provisions relative to single-sex education. These other regulations were not amended, and this notice does not affect them or the Department's interpretation of them.

The new regulations made substantive and technical changes to 34 CFR 106.34 and 106.35. Consequently, the 2002 Guidelines describe former requirements for single-sex classes and schools that have been superseded, in part, by new requirements. In addition, the final regulations published on October 25, 2006 in the Federal Register included a preamble explaining the requirements of 34 CFR 106.34 and 106.35.

The Department has determined that issuance of a revision of the 2002 Guidelines would be repetitive of the more comprehensive information provided in the 2006 Federal Register document. Accordingly, the Department has determined that it would be preferable to withdraw the 2002 Guidelines and to rely on the final regulations published in the Federal Register on October 25, 2006 (71 FR 62530), which include a preamble explaining the requirements of the new regulations, 34 CFR 106.34 and 106.35, as guidelines on the current requirements of the Title IX regulations on single-sex classes and schools for the purpose of satisfaction of the NCLB Act requirement that the Secretary provide guidelines on applicable law.

Accordingly, by this notice, the Department withdraws the 2002 Guidelines.

Electronic Access to This Document

You may review this document, as well as all other documents of this Department published in the Federal Register, in text or Adobe Portable Document (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

This notice also is available on OCR's Web site at: http://www.ed.gov/ocr.

Note: The official version of this document is the document published in the Federal Register. Free Internet access to the official edition of the Federal Register and the Code of Federal Regulations is available on GPO Access at: http://www.gpoaccess.gov/nara/index.html.

Authority: 20 U.S.C. 1681, 1682.

Dated: June 5, 2007.
Margaret Spellings,
Secretary of Education.

[FR Doc. E7-11253 Filed 6-8-07; 8:45 am]

BILLING CODE 4000-01-P